INTERNATIONAL TRADE COMMISSION

[USITC SE-02-025]

Sunshine Act Meeting

Time and Date: August 27, 2002 at 9:30 a.m.

Place: Room 101, 500 E Street, SW., Washington, DC 20463, Telephone: (202) 205-2000.

Status: Open to the public.

Matters To Be Considered: 1. Agenda for future meeting: None.

2. Minutes.

3. Ratification List.

4. Inv. Nos. 731-TA-965, 971-972, 979, and 981 (Final) (Certain Cold-Rolled Steel Products from Australia, India, Japan, Sweden, and Thailand)—briefing and vote. (The Commission is currently scheduled to transmit its determination and Commissioners' opinions to the Secretary of Commerce on or before September 6, 2002.)

5. Outstanding action jackets: None.

In accordance with Commission policy, subject matter listed above, not disposed of at the scheduled meeting, may be carried over to the agenda of the following meeting.

Issued: August 13, 2002.
By order of the Commission:
Marilyn R. Abbott,
Secretary to the Commission.

[FR Doc. 02-20959 Filed 8-14-02; 11:32 am]

BILLING CODE 7020-02-P